DEPARTMENT OF COMMERCE

National Oceanic and Atmospheric Administration

RIN 0648-XB962

Marine Fisheries Advisory Committee Meeting

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and provide advice on issues outlined under SUPPLEMENTARY INFORMATION below.

DATES: The meeting will be held May 10 and 11, 2022, from 8:30 a.m. to 5 p.m., and May 12, from 8:30 a.m. to 12 p.m.

ADDRESSES: The meeting will be held at the Sheraton Old San Juan Hotel, 100 Brumbaugh Street, San Juan, Puerto Rico 00901; 787-721-5100.

FOR FURTHER INFORMATION CONTACT: Heidi Lovett, MAFAC Assistant Director; 301-427-8034; email: Heidi.Lovett@noaa.gov.

SUPPLEMENTARY INFORMATION: As required by section 10(a)(2) of the Federal Advisory Committee Act, 5 U.S.C. App. 2, notice is hereby given of a meeting of MAFAC. The MAFAC was established by the Secretary of Commerce (Secretary), and, since 1971, advises the Secretary on all living marine resource matters that are the responsibility of the Department of Commerce. The complete charter and summaries of prior meetings are located online at https://www.nmfs.noaa.gov/ocs/mafac/.

Matters To Be Considered

This meeting time and agenda are subject to change.

The meeting is convened to hear presentations and updates and to discuss policies and guidance on the following topics: NOAA and NMFS priorities; national seafood strategy; aquaculture development; the NOAA Climate, Ecosystems, and Fisheries Initiative; offshore wind development and survey mitigation; and budget outlook. MAFAC will receive a report from its Recreational Electronic Reporting Task Force and an overview of outcomes from the recent National Saltwater Recreational Fisheries Summit. MAFAC will discuss various administrative and organizational matters, and meetings of subcommittees and working groups will be convened.

Special Accommodations

The meeting is physically accessible to people with disabilities. Requests for sign language interpretation or other auxiliary aids should be directed to Heidi Lovett; 301-427-8034 by April 29, 2022.

Dated: April 18, 2022.
Jennifer Lukens,
Director for the Office of Policy, National Marine Fisheries Service.

[FR Doc. 2022-08559 Filed 4-21-22; 8:45 am]

BILLING CODE 3510-22-P